Presidential Determination No. 2002-15 of April 18, 2002

Eligibility of Armenia, Azerbaijan, and Tajikistan to Receive Defense Articles and Services under the Foreign Assistance Act and the Arms Export Control Act

Memorandum for the Secretary of State

Pursuant to the authority vested in me by section 503(a) of the Foreign Assistance Act of 1961, as amended, and section 3(a)(1) of the Arms Export Control Act, I hereby find that the furnishing of defense articles and services to the Governments of Armenia, Azerbaijan, and Tajikistan will strengthen the security of the United States and promote world peace.

You are hereby authorized and directed to report this determination to the Congress and to arrange for its publication in the Federal Register.

B

THE WHITE HOUSE,

Washington, April 18, 2002.

[FR Doc. 02-10318

Filed 04-24-02; 8:45 am]

Billing code 4710-10-P